DEPARTMENT OF HEALTH AND HUMAN SERVICES

Centers for Disease Control and Prevention

[30Day-10-0733]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call Maryam I. Daneshvar, the CDC Reports Clearance Officer, at (404) 639-5960 or send an e-mail to omb@cdc.gov. Send written comments to CDC Desk Officer, Office of Management and Budget, Washington, DC or by fax to (202) 395-5806. Written comments should be received within 30 days of this notice.

Proposed Project

Early Hearing Detection and Intervention Hearing Screening and Follow-up Survey (OMB No. 0920-0733 exp. 10/31/2009)—Reinstatement With Change—National Center on Birth Defects and Developmental Disabilities (NCBDDD), Centers for Disease Control and Prevention (CDC).

Background and Brief Description

The National Center on Birth Defects and Developmental Disabilities at CDC promotes the health of babies, children, and adults with disabilities. As part of these efforts the Center is actively involved in addressing hearing loss (HL) among newborns and infants. HL is a common birth defect that affects approximately 12,000 infants each year and, when left undetected, can result in developmental delays. As awareness about infant HL increases, so does the demand for accurate information about rates of screening, referral, loss to follow-up, and prevalence. This information is important for: (a) Helping to ensure infants and children are receiving recommended screening and follow-up services, (b) identifying reasons for not receiving recommended services and (c) documenting the occurrence of differing degrees of HL among infants. These data will also assist the States in Early Hearing Detection and Intervention (EHDI) programs with quality improvement activities and provide information that will be helpful in assessing the impact of Federal initiatives. The public will be able to access this information via the CDC EHDI Web site (http://www.cdc.gov/ncbddd/ehdi).

Given the lack of a standardized and readily accessible source of data, the CDC EHDI program developed a survey to be used annually that utilizes uniform definitions to collect aggregate, standardized EHDI data from States and territories. The request to complete this survey is planned to be disseminated to 57 respondents via an e-mail, which will include a summary of the request and other relevant information. We anticipate that about 50 of the 57 coordinators will complete and return the survey. Minor changes to this survey, based on respondent feedback, are planned in order to make the survey easier to complete and further improve data quality. These changes include adding a question about how many infants with hearing loss are receiving only monitoring services, simplifying the table for reporting type and severity of hearing loss data, and expanding the maternal race categories in the demographic section. There are no costs to the respondents other than their time. The estimated annualized burden hours are 210.

Estimated Annualized Burden Hours
Respondents | Number of respondents | Number of responses per respondent | Average burden per response (in hours)
EHDI Program State Program Coordinators Contacted | 57 | 1 | 10/60
EHDI Program State Program Coordinators Who Return the Survey | 50 | 1 | 4

Dated: April 28, 2010.
Maryam I. Daneshvar,
Acting Reports Clearance Officer, Centers for Disease Control and Prevention.

[FR Doc. 2010-10587 Filed 5-4-10; 8:45 am]

BILLING CODE 4163-18-P